DEPARTMENT OF DEFENSE

Office of the Secretary

[Docket ID: DoD-2024-OS-0086]

Proposed Collection; Comment Request

AGENCY: Office of the General Counsel (OGC), Department of Defense (DoD).

ACTION: 60-Day information collection notice.

SUMMARY: In compliance with the Paperwork Reduction Act of 1995, the Office of the General Counsel, DoD announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by September 23, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Office of General Counsel, DoD, 1600 Defense Pentagon, Washington, DC 20301-1600; Dwight Sullivan, 703-695-1055.

SUPPLEMENTARY INFORMATION:

Title; Associated Form; and OMB Number: Application for Certificate of Pardon for Certain Offenses Under Former Article 125, Uniform Code of Military Justice; DD Form 3221; OMB Control Number 0704-ACOP.

Needs and Uses: The principal purpose for collecting this information is to enable the Military Departments and the Department of Homeland Security, for information submitted to the U.S. Coast Guard, and the Department of Justice Office of the Pardon Attorney to evaluate and process requests for issuance of a certificate of pardon based on the June 26, 2024 Presidential proclamation granting pardon for certain violations of Article 125 under the Uniform Code of Military Justice. The Presidential pardon proclamation is available at: https://www.whitehouse.gov/briefing-room/presidential-actions/2024/06/26/a-proclamation-on-granting-pardon-for-certain-violations-of-article-125-under-the-uniform-code-of-military-justice/.

Affected Public: Individuals or households.

Annual Burden Hours: 72.

Number of Respondents: 72.

Responses per Respondent: On occasion, as required to request a certificate of pardon for each eligible court-martial conviction.

Annual Responses: 72.

Average Burden per Response: 60 minutes.

Frequency: On occasion.

Dated: July 18, 2024.
Aaron T. Siegel,
Alternate OSD Federal Register Liaison Officer, Department of Defense.

[FR Doc. 2024-16146 Filed 7-22-24; 8:45 am]

BILLING CODE 6001-FR-P